DEPARTMENT OF COMMERCE

International Trade Administration

[A-523-813]

Polyethylene Terephthalate Sheet From the Sultanate of Oman: Preliminary Results of Changed Circumstances Review and Intent To Revoke the Antidumping Duty Order

AGENCY: Enforcement and Compliance, International Trade Administration, Department of Commerce.

SUMMARY: On November 18, 2022, the U.S. Department of Commerce (Commerce) initiated a changed circumstances review (CCR) of the antidumping duty order on polyethylene terephthalate (PET) sheet from the Sultanate of Oman (Oman). We preliminarily determine that revocation of the order is warranted. Interested parties are invited to comment on these preliminary results.

DATES: Applicable December 27, 2022.

FOR FURTHER INFORMATION CONTACT: Brittany Bauer, AD/CVD Operations, Office V, Enforcement and Compliance, International Trade Administration, U.S. Department of Commerce, 1401 Constitution Avenue NW, Washington, DC 20230; telephone: (202) 482-3860.

SUPPLEMENTARY INFORMATION:

Background

On September 10, 2020, Commerce published the antidumping duty order on PET sheet from Oman.¹ On October 26, 2022, the petitioners ² (i.e., domestic producers of subject merchandise) requested, through a CCR, revocation of the Order, pursuant to section 751(b)(1)(A) of the Tariff Act of 1930, as amended (the Act), and 19 CFR 351.222(g)(1).³ Commerce published the notice of initiation of the CCR on November 18, 2022.⁴ Because the petitioners did not indicate whether they account for substantially all of the domestic production of PET sheet, in the Initiation Notice we invited interested parties to submit comments regarding industry support for the potential revocation, as well as comments and/or factual information regarding the CCR.

¹ See Polyethylene Terephthalate Sheet from the Republic of Korea and the Sultanate of Oman: Antidumping Duty Orders, 85 FR 55824 (September 10, 2020) (Order).

² The petitioners are Advanced Extrusion, Inc., Good Natured Products, IL dba Ex-Tech Inc., and Multi-Plastics Extrusions, Inc.

³ See Petitioners' Letter, “Request for a `No Interest' Changed Circumstances Review and Revocation of the Order,” dated October 26, 2022.

⁴ See Polyethylene Terephthalate Sheet from the Sultanate of Oman: Notice of Initiation of Changed Circumstances Review and Consideration of Revocation of the Antidumping Duty Order, 87 FR 69252 (November 18, 2022) (Initiation Notice).

On November 22, 2022, OCTAL Extrusion Corporation (OCTAL Extrusion), a U.S. producer of PET sheet, submitted comments in support of the revocation of the Order.⁵ We received no further comments on the Initiation Notice.

⁵ See OCTAL Extrusion's Letter, “OCTAL Extrusion's Comments Supporting Revocation of AD Order,” dated November 22, 2022 (OCTAL Extrusion's Letter).

Scope of the Order

The merchandise covered by the Order is raw, pretreated, or primed polyethylene terephthalate sheet, whether extruded or coextruded, in nominal thicknesses of equal to or greater than 7 mil (0.007 inches or 177.8 µm) and not exceeding 45 mil (0.045 inches or 1143 μm) (PET sheet). The scope includes all PET sheet whether made from prime (virgin) inputs or recycled inputs, as well as any blends thereof. The scope includes all PET sheet meeting the above specifications regardless of width, color, surface treatment, coating, lamination, or other surface finish.

The merchandise subject to the Order is properly classified under statistical reporting subheading 3920.62.0090 of the Harmonized Tariff Schedule of the United States (HTSUS). Although the HTSUS subheading is provided for convenience and customs purposes, the written description of the scope is dispositive.

Preliminary Results of the Changed Circumstances Review and Intent To Revoke the Order

Pursuant to section 751(d)(1) of the Act, and 19 CFR 351.222(g), Commerce may revoke an antidumping or countervailing duty order, in whole or in part, based on a review under section 751(b) of the Act (i.e., a CCR). Section 751(b)(1) of the Act requires a CCR to be conducted upon receipt of a request which shows changed circumstances sufficient to warrant a review. Section 782(h)(2) of the Act gives Commerce the authority to revoke an order if producers accounting for substantially all of the production of the domestic like product have expressed a lack of interest in the order. Section 351.222(g) of Commerce's regulations provides that Commerce will conduct a CCR under 19 CFR 351.216, and may revoke an order (in whole or in part), if it concludes that: (i) producers accounting for substantially all of the production of the domestic like product to which the order pertains have expressed a lack of interest in the relief provided by the order, in whole or in part; or (ii) if other changed circumstances sufficient to warrant revocation exist. Both the Act and Commerce's regulations require that “substantially all” domestic producers express a lack of interest in the order for Commerce to revoke the order, in whole or in part.⁶ In its administrative practice, Commerce has interpreted “substantially all” to represent producers accounting for at least 85 percent of U.S. production of the domestic like product.⁷

⁶ See section 782(h) of the Act and 19 CFR 351.222(g).

⁷ See Honey from Argentina; Antidumping and Countervailing Duty Changed Circumstances Reviews; Preliminary Intent to Revoke Antidumping and Countervailing Duty Orders, 77 FR 67790, 67791 (November 14, 2012), unchanged in Honey from Argentina; Final Results of Antidumping and Countervailing Duty Changed Circumstances Reviews; Revocation of Antidumping and Countervailing Duty Orders, 77 FR 77029 (December 31, 2012).

Commerce did not issue a combined notice of initiation and preliminary results in this CCR because the record was unclear as to whether the petitioners account for substantially all domestic production of PET sheet.⁸ Thus, Commerce did not determine in the Initiation Notice whether producers accounting for substantially all of the production of the domestic like product lacked interest in maintaining the Order. Instead, we invited interested parties to submit comments concerning domestic industry support with respect to the requested revocation of the Order.⁹ Although OCTAL Extrusion submitted comments in response to the initiation of this CCR, it did not comment on whether it, or the petitioners, account for substantially all domestic production of PET sheet.¹⁰ Commerce, therefore, received no additional comments on industry support aside from comments by a domestic producer of PET sheet, OCTAL Extrusion, in support of the revocation. As a result, we find that the domestic industry has expressed no opposition with respect to the proposed revocation of the Order.

⁸ See Initiation Notice.

⁹ Id., 87 FR at 69253.

¹⁰ See OCTAL Extrusion's Letter.

In light of the petitioners' statement of lack of interest, OCTAL Extrusion's comments in support of the revocation, and the absence of comments from any interested party addressing the issue of domestic industry support, we preliminarily conclude that producers accounting for substantially all of the production of the domestic like product to which the Order pertains lack interest in the relief provided by the Order. Thus, we preliminarily determine that changed circumstances warrant revocation of the Order. We will consider comments from interested parties on these preliminary results before issuing the final results of this review.

Accordingly, we are notifying the public of our intent to revoke the Order. If we make a final determination to revoke the Order, then section 751(d)(3) of the Act provides that “{a} determination under this section to revoke an order . . . shall apply with respect to unliquidated entries of the subject merchandise which are entered, or withdrawn from warehouse, for consumption on or after the date determined by the administering authority.” Consequently, Commerce's general practice is to instruct U.S. Customs and Border Protection (CBP) to liquidate without regard to antidumping and countervailing duties, and to refund any estimated deposits of those duties, on all unliquidated entries of the merchandise covered by a revocation that are not covered by the final results of an administrative review or automatic liquidation.¹¹ However, certain unliquidated entries are currently enjoined from liquidation by litigation. Thus, Commerce is also requesting comments from interested parties regarding the treatment of entries that are covered by this revocation request but remain enjoined due to an injunction issued in ongoing litigation.

¹¹ See, e.g., Certain Pasta from Italy: Final Results of Countervailing Duty Changed Circumstances Review and Revocation, In Part, 76 FR 27634 (May 12, 2011); Stainless Steel Bar from the United Kingdom: Notice of Final Results of Changed Circumstances Review and Revocation of Order, in Part, 72 FR 65706 (November 23, 2007); Notice of Final Results of Antidumping Duty Changed Circumstances Review and Revocation of Order In Part: Certain Corrosion-Resistant Carbon Steel Flat Products from Germany, 71 FR 66163 (November 13, 2006); Notice of Final Results of Antidumping Duty Changed Circumstances Reviews and Revocation of Orders in Part: Certain Corrosion-Resistant Carbon Steel Flat Products from Canada and Germany, 71 FR 14498 (March 22, 2006); and Notice of Final Results of Antidumping Duty Changed Circumstances Review, and Determination to Revoke Order in Part: Certain Cased Pencils from the People's Republic of China, 68 FR 62428 (November 4, 2003).

Public Comment

Interested parties are invited to comment on these preliminary results, as well as the treatment of unliquidated entries covered by an injunction, in accordance with 19 CFR 351.309(c)(1)(ii). Written comments may be submitted to Commerce no later than 14 days after the date of publication of these preliminary results. Rebuttal comments, limited to issues raised in such comments, may be filed with Commerce no later than seven days after the initial comments are filed.¹² Note that Commerce has temporarily modified certain of its requirements for serving documents containing business proprietary information, until further notice.¹³ All submissions must be filed electronically using Enforcement and Compliance's Antidumping and Countervailing Duty Centralized Electronic Service System (ACCESS). ACCESS is available to registered users at https://access.trade.gov. An electronically-filed document must be received successfully in its entirety in ACCESS by 5:00 p.m. Eastern Time on the due date set forth in this notice.

¹² Submissions of rebuttal factual information must comply with 19 CFR 351.301(b)(2); see also Temporary Rule Modifying AD/CVD Service Requirements Due to COVID-19; Extension of Effective Period, 85 FR 41363 (July 10, 2020) (Temporary Rule).

¹³ See Temporary Rule.

Final Results of the Changed Circumstances Review

Commerce's regulations provide that it will issue the final results of a CCR, which will include analysis of any written comments, no later than 270 days after the date on which a review was initiated, or within 45 days if all parties to the proceeding agree to the outcome of the review.¹⁴ If, in the final result of this review, Commerce continues to determine that changed circumstances warrant the revocation of the Order, we intend to instruct CBP to liquidate without regard to antidumping duties, and to refund any deposits of estimated antidumping duties, on all unliquidated entries of the merchandise covered by the revocation that are not covered by the final results of an administrative review or automatic liquidation.¹⁵ The current requirement for cash deposit of estimated antidumping duties on all entries of subject merchandise will continue unless they are modified pursuant to the final results of this CCR.

¹⁴ See 19 CFR 351.216(e).

¹⁵ As noted above, certain unliquidated entries are currently enjoined from liquidation by litigation, and parties may submit comments relating to Commerce's treatment of such entries.

Notification to Interested Parties

These preliminary results of review are being issued and published in accordance with sections 751(b) and 777(i) of the Act, and 19 CFR 351.216, 19 CFR 351.221(c)(3), and 19 CFR 351.222.

Dated: December 19, 2022.
Lisa W. Wang,
Assistant Secretary for Enforcement and Compliance.

[FR Doc. 2022-28101 Filed 12-23-22; 8:45 am]

BILLING CODE 3510-DS-P